DEPARTMENT OF AGRICULTURE

National Institute of Food and Agriculture

Solicitation of Input From Stakeholders Regarding the Higher Education Multicultural Scholars Program (MSP) and the National Needs Graduate and Postgraduate Fellowship (NNF) Grants Program: Stakeholder and Public Listening Session

AGENCY: National Institute of Food and Agriculture, USDA.

ACTION: Notice of web-based listening session and request for stakeholder input.

SUMMARY: As part of the National Institute of Food and Agriculture's (NIFA) strategy to successfully meet the needs of its stakeholders, NIFA will host a virtual listening session. The focus of the listening session is to gather stakeholder input for the Higher Education Multicultural Scholars Program (MSP) and the National Needs Graduate and Postgraduate Fellowship (NNF) Grants Program Request for Applications (RFA) in Fiscal Year (FY) 2018. NIFA is particularly interested achieving the most impact and identifying suggested priorities in these workforce development programs.

DATES: The listening session will be held on Thursday, August 24, 2017 from 1:30 p.m. to 3:30 p.m., Eastern Daylight Time (EDT). Anyone interested may submit written comments. All written comments must be submitted to Dr. Joyce Parker at joyce.parker@nifa.usda.gov by 5 p.m. EDT on August 24, 2017.

ADDRESSES: The web-based listening session will be hosted using Adobe Connect and audio conference call. On August 24th, please access the following Web site, https://zoom.us/j/261558898. The audio conference call capabilities can be accessed at 1-888-844-9904, participant code 7923533#.

Registration: Persons wishing to present during the web-based listening session on Thursday, August 24, 2017, are requested to pre-register by contacting Dr. Joyce Parker at joyce.parker@nifa.usda.gov. Participants may reserve one 5-minute comment period. More time may be available, depending on the number of people wishing to make a presentation. Reservations will be confirmed on a first-come, first-served basis. All other participants may provide comments during the listening session if time permits, or by the listed means. You may submit comments, identified by NIFA-2017-0004, by any of the following methods:

Federal eRulemaking Portal: http://www.regulations.gov. Follow the instructions for submitting comments.

Email:

For the MSP program email—MSP@nifa.usda.gov.

For the NNF program email—NNF@nifa.usda.gov.

Include NIFA-2017-0004 in the subject line of the message.

Mail: Paper, disk or CD-ROM submissions should be submitted to Dr. Joyce Parker, Division of Community and Education; Institute of Youth, Family and Community (IYFC), National Institute of Food and Agriculture, U.S. Department of Agriculture, STOP 2201, 1400 Independence Avenue SW., Washington, DC 20250-2220.

Instructions: All submissions received must include the agency name and reference to NIFA-2017-0004. All comments received will be posted to http://www.regulations.gov, including any personal information provided.

FOR FURTHER INFORMATION CONTACT: Dr. Joyce Parker, Program Specialist, NIFA at (202) 401-4512 or by email at joyce.parker@nifa.usda.gov.

SUPPLEMENTARY INFORMATION: Background and Purpose: Higher Education Multicultural Scholars Program (MSP)—The purpose of the MSP is to provide scholarships to support recruiting, engaging, retaining, mentoring, and training committed, eligible multicultural scholars, resulting in either baccalaureate degrees within the food and agricultural sciences disciplines or a Doctor of Veterinary Medicine (D.V.M.) degree. The scholarships are intended to encourage outstanding students from groups that are historically underrepresented and underserved to pursue and complete baccalaureate degrees in the Food, Agricultural, Natural Resources, and Human Sciences, or achieve a D.V.M., that would lead to a diverse and highly skilled work force.

Through these scholarships, the goal of the MSP is to increase the participation of any group historically underrepresented in USDA mission areas and prepare them for the professional and scientific workforce in these areas. Underrepresented/underserved groups are those whose representation among food and agricultural professionals is disproportionately less than their proportion in the general population as indicated in standard statistical references, or as documented on a case-by-case basis by national survey data (e.g. the U.S. Department of Education's Digest of Education Statistics, U.S. Department of Agriculture's Food and Agricultural Education Information Systems, etc.).

National Needs Graduate and Postgraduate Fellowship Grants Program (NNF)—The purpose of the NNF Grants Program is to provide funding to support students' training and completion of master's and/or doctoral degree programs in identified national need areas within the Food, Agricultural, Natural Resources, and Human Sciences. Awards made under NNF are specifically intended to support traineeship programs that engage outstanding students to pursue and complete their degrees in areas where there is a national need for the development of scientific and professional expertise in the food and agricultural sciences. NNF awards invest in graduate training and relevant international experiential learning for a cadre of diverse individuals who demonstrate their potential to successfully complete graduate degree programs in disciplines relevant to the mission of the USDA.

Implementation Plans

All comments and the official transcript of the listening session, once available, may be reviewed on the NIFA Web page, https://nifa.usda.gov/stakeholder-feedback-education. NIFA plans to consider stakeholder input received from this listening session as well as other written comments in developing the Fiscal Year 2018 solicitations for these programs.

Done at Washington, DC, this 26 day of July, 2017.
Sonny Ramaswamy,
Director, National Institute of Food and Agriculture.

[FR Doc. 2017-16259 Filed 8-1-17; 8:45 am]

BILLING CODE 3410-22-P